ENVIRONMENTAL PROTECTION AGENCY

[EPA-HQ-OLEM-2023-0244, FRL-10921-01-OLEM]

Agency Information Collection Activities; Proposed Collection; Comment Request; Disposal of Coal Combustion Residuals From Electric Utilities, EPA ICR No. 2609.03, OMB Control No. 2050-0223

AGENCY: Environmental Protection Agency (EPA).

ACTION: Notice.

SUMMARY: The Environmental Protection Agency (EPA) is planning to submit the information collection request (ICR), Disposal of Coal Combustion Residuals from Electric Utilities, EPA ICR No. 2609.03, OMB Control No. 2050-0223 to the Office of Management and Budget (OMB) for review and approval in accordance with the Paperwork Reduction Act (PRA). Before doing so, the EPA is soliciting public comments on specific aspects of the proposed information collection as described in SUPPLEMENTARY INFORMATION. This is a proposed extension of the ICR, which is currently approved through December 31, 2023. An Agency may not conduct or sponsor and a person is not required to respond to a collection of information unless it displays a currently valid OMB control number.

DATES: Comments must be submitted on or before June 30, 2023.

ADDRESSES: Submit your comments, referencing by Docket ID No. EPA-HQ-OLEM-2023-0244, at https://www.regulations.gov (our preferred method), or by mail to: EPA Docket Center, Environmental Protection Agency, Mail Code 28221T, 1200 Pennsylvania Ave. NW, Washington, DC 20460.

Once submitted, comments cannot be edited or removed from the docket. The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov//dockets.

FOR FURTHER INFORMATION CONTACT: Peggy Vyas, Environmental Protection Agency, 1200 Pennsylvania Ave. NW, Washington, DC 20460; telephone number: 202-566-0453; vyas.peggy@epa.gov.

SUPPLEMENTARY INFORMATION: Supporting documents which explain in detail the information that the EPA will be collecting are available in the public docket for this ICR. The docket can be viewed online at www.regulations.gov. Materials can also be viewed at the Reading Room located at the EPA Docket Center, WJC West Building, Room 3334, 1301 Constitution Avenue NW, Washington, DC 20004. The Docket Center's hours of operations are 8:30 a.m.-4:30 p.m., Monday-Friday (except Federal Holidays). The telephone number for the Docket Center is 202-566-1744.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The EPA published a final rule to regulate the disposal of coal combustion residuals (CCR) from electric utilities as solid waste under RCRA Subtitle D (see 80 FR 21302, April 17, 2015). EPA established national minimum criteria for existing and new CCR landfills and CCR surface impoundments and all lateral expansions to include location restrictions, design and operating criteria, groundwater monitoring and corrective action, closure requirements and post-closure care, and recordkeeping, notification, and internet posting requirements. Since the final rule, several court decisions have required accelerated closure timelines for many units and forced closures for many units previously categorized as lined. In 2020, EPA published the “Hazardous and Solid Waste Management System: Disposal of CCR; A Holistic Approach to Closure Part B: Alternate Demonstration for Unlined Surface Impoundments Rule” which allows for units to receive variances for unlined surface impoundments (see 85 FR 72506, November 12, 2020). This ICR includes the voluntary action that states may take to obtain permit program approval. With this renewal, this ICR also incorporates the burden currently covered by OMB Control No. 2050-0053.

Form Numbers: None.

Respondents/affected entities: Business and other for-profit as well as States, Local and Tribal governments.

Respondent's obligation to respond: Required to obtain or retain a benefit (RCRA Sections 1008, 4004, 4005(a)).

Estimated number of respondents: 730.

Frequency of response: On occasion.

Total estimated burden: 177,498 hours. Burden is defined at 5 CFR 1320.03(b).

Total estimated cost: $18,347,854, which includes $10,024,078 annualized labor costs and $8,323,776 annualized capital or O&M costs.

Changes in estimates: The burden hours are likely to stay substantially the same.

Carolyn Hoskinson,
Director, Office of Resource Conservation and Recovery.

[FR Doc. 2023-09123 Filed 4-28-23; 8:45 am]

BILLING CODE 6560-50-P